DEPARTMENT OF ENERGY

Western Area Power Administration

Post-2004 Resource Pool—Salt Lake City Area Integrated Projects

AGENCY: Western Area Power Administration, DOE.

ACTION: Notice of Proposed Allocation.

SUMMARY: The Western Area Power Administration (Western), a Federal power marketing agency of the Department of Energy, announces its Post-2004 Resource Pool—Salt Lake City Area Integrated Projects (SLCA/IP) Proposed Allocation of Power. This allocation fulfills the requirements of Subpart C—Power Marketing Initiative of the Energy Planning and Management Program Final Rule. The Post-2004 Resource Pool Proposed Allocation of Power is Western's application of Subpart C—Power Marketing Initiative of the Energy Planning and Management Program Final Rule to the SLCA/IP.

DATES: All comments must be received by the end of the comment period, to be assured of consideration. The comment period on the Proposed Allocation of Power begins today and ends October 11, 2001.

ADDRESSES: All comments regarding the Proposed Allocation of Power should be directed to the following address: Mr. Burt Hawkes, Power Marketing and Contracts, CRSP Management Center, Western Area Power Administration, P.O. Box 11606, Salt Lake City, UT 84147-0606. Comments may also be faxed to (801) 524-5017 or e-mailed to POST2004SLCIP@WAPA.GOV.

FOR FURTHER INFORMATION CONTACT: Mr. Burt Hawkes, Power Marketing and Contracts, (801) 524-3344, or Lyle Johnson, Public Utilities Specialist, (801) 524-5585. Written requests for information should be sent to CRSP Management Center, Western Area Power Administration, P.O. Box 11606, Salt Lake City, UT 84147-0606.

SUPPLEMENTARY INFORMATION: Western will also consult with the applicants and interested parties at the combined public information forums and comment forums, which are planned for Albuquerque, New Mexico; Las Vegas, Nevada; Phoenix, Arizona; and Salt Lake City, Utah. Notification of the location and times of the forums will be given in a subsequent Federal Register notice at least 30 days prior to the first of these forums. All documentation developed or retained by Western in developing the Proposed Allocation of Power will be available for inspection and copying at the CRSP Management Center, 150 East Social Hall Avenue, Suite 300, Salt Lake City, Utah. After all public comments have been thoroughly considered, Western will prepare and publish the Final Allocation of Power in the Federal Register.

Western published its decision on June 25, 1999, at 64 FR 34414, to apply Subpart C—Power Marketing Initiative of the Energy Planning and Management Program Final Rule, 10 CFR part 905 to the SLCA/IP. The Energy Planning and Management Program (Program), which was developed in part to implement section 114 of the Energy Policy Act of 1992, became effective on November 20, 1995. Subpart C of the Program provides for the establishment of project-specific resource pools and the allocation of power from these pools to new preference customers. Western's power allocation criteria and call for applications for power were published in the Federal Register at 64 FR 48825, September 8, 1999, and revised and clarified in the Federal Register at 65 FR 11303, March 2, 2000. These established the framework for allocating power from the resource pool to be established from the SLCA/IP. Applications for power were accepted at Western's Colorado River Storage Project (CRSP) Management Center until close of business on June 8, 2000. The Proposed Allocation of Power published herein is the result of Western's decision in response to those applications. Only comments relevant to the proposed allocations will be accepted during this period. A Federal Register notice of the final allocations of power will address the comments received during the comment period.

I. Proposed Allocation of Power

Western will respond to the comments received about the Proposed Allocation of Power and publish its final allocations after the public comment period ends. If any adjustments or corrections are necessary in a recipient's allocation, the fixed size of the pool will cause the change to affect the allocations of all other recipients. Western plans to enter into contracts with new customers after publication of that notice.

The SLCA/IP Post-2004 Power Pool will consist of 7 percent of the SLCA/IP firm power resources available on October 1, 2004. On this date, 7 percent of the firm power resources will be withdrawn from current customers and allocated to new customers. In addition, another 7 megawatts (MW) of capacity and associated energy (14,660,861 kilowatthours (kWh) in the Winter Season and 15,350,991 kWh in the Summer Season) will be withdrawn from Tri-State Generation and Transmission Association (Tri-State) and included in the Post-2004 Power Pool. These 7 MW will be made available to Navopache Electric Cooperative (Navopache). Navopache, as a member of Plains Electric Generation and Transmission Cooperative, Inc. (Plains), had received SLCA/IP power through Plains for many years. However, Navopache decided not to participate in a recent merger between Plains and Tri-State. Because the Federal power allocation was under contract to Plains rather than Navopache, Navopache lost its share of the benefits of Plains' Federal power allocation when the merger was completed in 2000. Consistent with Western's policy of encouraging the widespread distribution of Federal power, Western is remedying this situation by reducing the Plains/Tri-State allocation by 7 MW in both seasons, effective October 1, 2004, and allocating 7 MW in each season with 14,660,861 kWh available in the Winter Season and 15,350,991 kWh in the Summer Season to Navopache.

Western received applications for power from 57 Native American tribes or organizations and 9 utilities. Following the established criteria of allocating first to Native American tribes with the stated target of serving 65 percent of the eligible loads, the tribes' Applicant Profile Data (APD) indicated that the electrical loads of these Native American tribes were large enough to require the entire Post-2004 Power Pool be allocated to the qualifying Native American tribes. Navopache is the only non-tribal applicant that will receive an allocation.

Since the entire Post-2004 Power Pool was used to meet the commitment to Navopache and to meet the needs of Native American applicants, there is no power available for the remaining eight new applicants. Accordingly, Western is unable to allocate SLCA/IP power to the following: Utah Transit Authority; Deseret Chemical Depot; U.S. Department of Energy, Sandia National Laboratories; U.S. Department of Energy, Waste Isolation Pilot Project; Town of Fredonia, Arizona; City of Monticello, Utah; City of Eagle Mountain, Utah; and Washington County Water Conservancy District.

Several tribes within the SLCA/IP marketing area were determined ineligible for an allocation of power from the Post-2004 Power Pool primarily because they did not meet the qualifying criteria or failed to submit proper applications. Tribes that have not been assigned a proposed allocation include the following:

Tribe | Reason
Ak Chin Indian Community | Current allocation of Federal power exceeds 65 percent of Indian total load.
Cherokee Nation Southwest Longhair Tribe | Not a Federally recognized tribe. No reservation; no electrical load during the base year.
Colorado River Indian Tribes | Current Federal power available exceeds 65 percent of total load.
Navajo Agricultural Products Industry | Current reservation of Federal power exceeds 65 percent of total load.
San Juan Southern Paiute | No reservation. Receive benefits of an allocation through Navajo Tribal Utility Authority.

Four tribes, the Moapa Band of Paiutes, the Pueblo of San Ildefonso, the Pueblo of Santo Domingo, and the Pueblo of Taos, submitted incomplete applications. No allocations are proposed for these tribes.

Western's intent is that the benefits of Federal power be made available first to Native American individuals, businesses, and tribal loads and to essential services existing on reservations that may be owned by non-Native Americans. Because the Post-2004 Power Pool is not large enough to meet the goal of serving 65 percent of the total loads of the Native American applicants, Western is able to allocate power only for those uses as initially intended. If there had been unallocated energy remaining in the Post-2004 Power Pool, Western would have considered allocating it to non-Native American loads on the reservations.

For the two tribes, the Gila River Indian Community and the Tonto Apache Tribe, that did not separate their commercial and industrial loads into Indian- and non-Indian-owned loads, Western used the amount of energy reported in the small commercial category of their APDs as estimates of their Indian-owned load on their respective reservations.

The Power Allocation Procedures published September 8, 1999, state, “For Native American Tribes currently receiving power from utilities that have allocations of Federal power resources, Western will take into account the benefit received through the existing supplier when determining their allocations.” Accordingly, the percentage of Western service that each of the tribes receives through its current power supplier(s) was used in determining the allocations for tribes served by current Western customers. The White Mountain Apache Tribe's (White Mountain) allocation was calculated using the percentage of service that its serving utility, Navopache, will receive when service to Navopache and White Mountain begins on October 1, 2004. This is consistent with the method used to determine allocations to the other applicant tribes that are served by utilities that receive Federal power.

Energy from the Post-2004 Power Pool was allocated to the applicants in a manner consistent with the intent of the criteria in that each tribe received an equal percent of its energy needs from the Post-2004 Power Pool. Energy was allocated using the following formula: Post-2004 Proposed Allocation = EL × (P − C)

Where

EL = Eligible loads, the sum of reported residential, agricultural, Indian-owned commercial, and other essential service loads.

P = Percent of eligible load served, not to exceed 65 percent.

C = Percent of eligible load currently served by Federal power.

Contract rates of delivery (CROD) were determined by applying Western's seasonal load factors of 49.4 percent in the Winter Season and 53.1 percent in the Summer Season to the energy allocations. The resulting allocations serve 61.2 percent of the tribal applicants' Winter Season and 59.3 percent of their Summer Season loads. The resource pool was not large enough to serve any non-Indian-owned loads.

The proposed allocations of power for new Native American customers are as follows:

Salt Lake City Area Integrated Projects: Native American Tribes or Organizations | Proposed Post-2004 Power Allocations: Winter Seasonal Energy (kWh) | Proposed Post-2004 Power Allocations: Summer Seasonal Energy (kWh) | Proposed Post-2004 Power Allocations: Winter Seasonal CROD (kW) | Proposed Post-2004 Power Allocations: Summer Seasonal CROD (kW)
Alamo Navajo Chapter | 520,517 | 467,324 | 241 | 199
Canoncito Navajo Chapter | 384,767 | 342,392 | 178 | 146
Cocopah Indian Tribe | 2,622,934 | 2,987,305 | 1,216 | 1,274
Confederated Tribes of the Goshute Reservation | 157,457 | 93,602 | 73 | 40
Duckwater Shoshone Tribe | 170,417 | 164,419 | 79 | 70
Ely Shoshone Tribe | 326,822 | 185,540 | 151 | 79
Fort Mojave Indian Tribe | 984,261 | 1,122,834 | 456 | 479
Ft. McDowell Mojae-Apache Indian Community | 5,643,637 | 5,491,311 | 2,615 | 2,342
Gila River Indian Community | 24,007,510 | 21,831,572 | 11,126 | 9,310
Havasupai Tribe | 590,971 | 468,834 | 274 | 200
Hopi Tribe | 6,963,674 | 6,333,627 | 3,227 | 2,701
Hualapai Tribe | 1,519,945 | 1,471,351 | 704 | 627
Jicarilla Apache Tribe | 1,955,562 | 1,470,092 | 906 | 627
Kiabab Band of Paiute Indians | 13,892 | 10,156 | 6 | 4
Las Vegas Paiute Tribe | 1,296,112 | 1,680,347 | 601 | 717
Mescalero Apache Tribe | 2,634,241 | 2,473,888 | 1,221 | 1,055
Nambe Pueblo | 173,892 | 148,429 | 81 | 63
Navajo Tribal Utility Authority | 62,990,277 | 50,935,888 | 29,192 | 21,722
Paiute Indian Tribe of Utah | 392,204 | 380,489 | 182 | 162
Pascua Yaqui Tribe | 2,577,307 | 3,105,707 | 1,194 | 1,324
Picuris Pueblo | 58,763 | 192,033 | 27 | 82
Pueblo De Cochiti | 556,234 | 431,475 | 258 | 184
Pueblo of Acoma | 1,091,073 | 1,065,061 | 506 | 454
Pueblo of Isleta | 2,748,820 | 2,559,866 | 1,274 | 1,092
Pueblo of Jemez | 704,202 | 542,516 | 326 | 231
Pueblo of Laguna | 2,003,804 | 1,881,827 | 929 | 803
Pueblo of Pojoaque | 721,462 | 527,582 | 334 | 225
Pueblo of San Felipe | 1,044,582 | 764,873 | 484 | 326
Pueblo of San Juan | 1,620,183 | 1,569,299 | 751 | 669
Pueblo of Sandia | 2,024,432 | 2,198,256 | 938 | 937
Pueblo of Santa Clara | 1,413,816 | 1,124,568 | 655 | 480
Pueblo of Santo Domingo | 1,086,300 | 1,053,375 | 503 | 449
Pueblo of Tesuque | 738,366 | 705,739 | 342 | 301
Pueblo of Zia | 225,272 | 173,537 | 104 | 74
Pueblo of Zuni | 3,154,688 | 2,585,656 | 1,462 | 1,103
Quechan Indian Tribe | 1,807,040 | 1,177,660 | 837 | 502
Ramah Navajo Chapter | 1,095,757 | 760,531 | 508 | 324
Salt River Pima-Maricopa Indian Community | 33,272,972 | 37,793,973 | 15,420 | 16,118
San Carlos Apache Tribe | 8,507,052 | 8,766,037 | 3,942 | 3,738
Santa Ana Pueblo | 1,016,119 | 1,072,447 | 471 | 457
Skull Valley Band of Goshute Indians | 36,688 | 35,576 | 17 | 15
Southern Ute Indian Tribe | 3,125,651 | 2,846,489 | 1,449 | 1,214
Tohono O'Odham Utility Authority | 2,292,447 | 2,056,301 | 1,062 | 877
Tonto Apache Tribe | 865,611 | 891,647 | 401 | 380
Ute Indian Tribe | 1,832,215 | 1,158,870 | 849 | 494
Ute Mountain Ute Tribe | 1,351,661 | 1,208,840 | 626 | 516
White Mountain Apache Tribe | 15,078,751 | 13,797,601 | 6,988 | 5,884
Wind River Reservation | 1,307,138 | 1,227,998 | 606 | 524
Yavapai Apache Nation | 3,631,777 | 4,414,186 | 1,683 | 1,882
Yavapai Prescott Indian Tribe | 6,866,719 | 7,429,022 | 3,182 | 3,168
Yomba Shoshone Tribe | 75,518 | 73,229 | 35 | 31
Total | 217,281,509 | 203,251,178 | 100,696 | 86,678

II. Review Under the Regulatory Flexibility Act

The Regulatory Flexibility Act, 5 U.S.C. section 601-621 (Act), requires Federal agencies to perform a regulatory flexibility analysis if a proposed rule is likely to have a significant economic impact on a substantial number of small entities. Western has determined that this is a rulemaking of particular applicability relating to services offered by Western and, therefore, is not a rule within the purview of the Act. In addition, the requirements of this Act can be waived if the head of the agency certifies that the rule will not, if promulgated, have a significant economic impact on a substantial number of small entities. By his execution of this Federal Register notice, Western's Administrator certifies that no significant economic impact on a substantial number of small entities will occur.

III. Review Under the National Environmental Policy Act

Western has completed environmental impact statements (EIS) on the Program, and on the marketing of SLCA/IP power pursuant to the National Environmental Policy Act of 1969 (NEPA) (42 U.S.C. 4321, et seq.), Council on Environmental Quality regulations (40 CFR parts 1500-1508); and DOE NEPA regulations (10 CFR part 1021). The Records of Decision were published in the Federal Register (60 FR 53181, October 12, 1995; and 61 FR 56534, November 1, 1996). Since then, Western has determined that this action is categorically excluded from preparation of an additional environmental assessment or EIS. See Appendix B4.1 of subpart D of 10 CFR part 1021. Accordingly, no further environmental assessment will be conducted.

IV. Determination Under Executive Order 12866

DOE has determined this is not a significant regulatory action because it does not meet the criteria of Executive Order 12866, 58 FR 51735. Western has an exemption from centralized regulatory review under Executive Order 12866; accordingly, no clearance of this notice by OMB is required.

Dated: May 30, 2001.
Michael S. Hacskaylo,
Administrator.

[FR Doc. 01-14875 Filed 6-12-01; 8:45 am]

BILLING CODE 6450-01-P